POSTAL REGULATORY COMMISSION

[Docket No. MC2021-104; Order No. 5926]

Mail Classification Schedule

AGENCY: Postal Regulatory Commission.

ACTION: Notice.

SUMMARY: The Commission is acknowledging a recent Postal Service filing concerning size changes to the Mail Classification Schedule related to presorted First-Class Mail postcards. This document informs the public of the filing, invites public comment, and takes other administrative steps.

DATES: Comments are due: July 6, 2021.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Commission Action

IIII. Ordering Paragraphs

I. Introduction

On June 23, 2021, the Postal Service filed a Notice with the Commission pursuant to 39 CFR 3040.211 to change the size limitations for presorted First-Class Mail postcards in Section 1110 in the Market Dominant Product List in the Mail Classification Schedule (MCS).¹ In addition to its Notice, the Postal Service filed the following document:

¹ Notice of the United States Postal Service of Update to the Maximum Size Limit for Presorted First-Class Mail Postcards, June 23, 2021, at 1 (Notice).

• Attachment 1 to the Notice—Revisions to Mail Classification Schedule of applicable parts of Section 1110 Presorted Letters/Postcards of the MCS language.

The Postal Service proposed to “update the maximum size limit for presorted [First-Class Mail] FCM postcards, so that it would be 9 inches length by 6 inches height, instead of the current 6 inches length by 4¼ inches height.” Notice at 2. The Postal Service describes the proposed changes as a result of the Postal Service's outreach to mailers, who indicated that “postcards are an effective engagement and information tool, and the larger presorted postcard size would allow commercial mailers to capitalize on recipients' attention for promotion and information purposes,” increasing the overall utility of postcards to mailers. Id. at 3.

The Postal Service describes the impact of the proposed changes on the users of First-Class Mail postcards as an expansion of the options available to commercial mailers, and that it would not restrict current options in any manner, as current customers could either choose to send the larger First-Class Mail postcards or continue to send their current size postcards. Id. The Postal Service expects to have no more than a negligible impact on its competitors. Id.

II. Commission Action

The Commission establishes Docket No. MC2021-104 to consider the Postal Service's proposal described in its Notice. Interested persons may submit comments on whether the Notice is consistent with the policies of 39 CFR 3040.211. Comments are due by July 6, 2021.

The Notice and related filings are available on the Commission's website (http://www.prc.gov). The Commission encourages interested persons to review the Notice for further details.

The Commission appoints Richard A. Oliver to serve as Public Representative in this proceeding.

III. Ordering Paragraphs

It is ordered:

1. The Commission establishes Docket No. MC2021-104 for consideration of the matters raised by the Notice of the United States Postal Service of Update to the Maximum Size Limit for Presorted First-Class Mail Postcards, filed June 23, 2021.

2. Pursuant to 39 U.S.C. 505, Richard A. Oliver is appointed to serve as an officer of the Commission (Public Representative) to represent the interests of the general public in this proceeding.

3. Comments by interested persons are due by July 6, 2021.

4. The Secretary shall arrange for publication of this order in the Federal Register.

By the Commission.
Mallory Smith,
Federal Register Liaison.

[FR Doc. 2021-13864 Filed 6-28-21; 8:45 am]

BILLING CODE 7710-FW-P